DEPARTMENT OF COMMERCE

International Trade Administration

Application for Duty-Free Entry of Scientific Instrument

Pursuant to section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC.

Docket Number: 04-015. Applicant: North Carolina State University, Campus Box 7212, Raleigh, NC 27695-7212. Instrument: Cryogen-Free Superconductive Magnet System. Manufacturer: Cryogenic Limited, United Kingdom. Intended Use: The instrument is intended to be used to study properties of newly synthesized magnetic materials, phase separation phenomena and cluster nanostructure in lanthanide-doped optically-active glasses, and structural arrangements of membrane proteins and phospholipid nanoassemblies including:

1. Zero-field splitting energy for effective integer spin-systems of coupled spins that are spectroscopically silent at lower magnetic fields.

2. Spin-polarization phenomena in novel magnetic materials synthesized at the University.

3. Transmembrane location of membrane proteins.

Additionally, the instrument will be used for quantum computing experiments with essentially pure quantum state attained at magnetic fields above 11 Tesla for an ensemble of quantum dots and for experiments to lift degeneracy of quantum states of electronic spins by applying magnetic field.

Application accepted by Commissioner of Customs: August 4, 2004.

Gerald A. Zerdy,
Program Manager, Statutory Import Programs Staff.

[FR Doc. 04-19271 Filed 8-20-04; 8:45 am]

BILLING CODE 3510-DS-P